DEPARTMENT OF ENERGY

Federal Energy Regulatory Commission

[Docket No. RP02-289-001]

Southern Natural Gas Company; Notice of Compliance Filing

October 11, 2002.

Take notice that on July 11, 2002, Southern Natural Gas Company (Southern) tendered for filing as part of its FERC Gas Tariff, Seventh Revised Volume No. 1, Substitute Seventh Revised Sheet No. 237, with an effective date of July 1, 2002.

Southern states that the filing implements certain directives in the Commission's order issued on June 26, 2002, in the captioned proceeding.

Southern states that copies of the filing are being served upon its customers and interested state commissions, and upon each party designated on the official service list.

Any person desiring to protest said filing should file a protest with the Federal Energy Regulatory Commission, 888 First Street, NE, Washington, DC 20426, in accordance with section 385.211 of the Commission's Rules and Regulations. All such protests must be filed on or before October 21, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-26494 Filed 10-17-02; 8:45 am]

BILLING CODE 6717-01-P